Memorandum of August 5, 2005

Assignment of Reporting Function

Memorandum for the Secretary of Commerce

By virtue of the authority vested in me as President by the Constitution and the laws of the United States, including section 301 of title 3, United States Code, I hereby assign to you the functions of the President under section 316 of the Coastal Zone Management Act of 1972, as amended (16 U.S.C. 1451, et seq.).

You are authorized and directed to publish this memorandum in the Federal Register.

B

THE WHITE HOUSE,

Washington, August 5, 2005.

[FR Doc. 05-15878

Filed 8-8-05; 9:05 am]

Billing code 3510-BP-P